ENVIRONMENTAL PROTECTION AGENCY

[EPA-HQ-OPP-2006-0145; FRL-8799-3]

Xylene; Addendum to the Reregistration Eligibility Decision

AGENCY: Environmental Protection Agency (EPA).

ACTION: Notice.

SUMMARY: This notice announces EPA’s decision to modify certain provisions and risk mitigation measures that were specified in the 2005 Reregistration Eligibility Decision (RED) for the pesticide xylene, an aquatic herbicide used in irrigation canals. EPA conducted this reassessment of the xylene RED in response to comments received during the public comment period. Based on new information received, and in a continuing effort to mitigate risk, the Agency has made certain modifications to the xylene RED.

FOR FURTHER INFORMATION CONTACT: Tracy L. Perry, Pesticide Re-evaluation Division (7508P), Office of Pesticide Programs, Environmental Protection Agency, 1200 Pennsylvania Ave., NW., Washington, DC 20460-0001; telephone number: (703) 308-0128; fax number: (703) 308-7070; e-mail address: perry.tracy@epa.gov.

SUPPLEMENTARY INFORMATION:

I. General Information

A. Does this Action Apply to Me?

This action is directed to the public in general, and may be of interest to a wide range of stakeholders including environmental, human health, farm worker and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2006-0145. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

A. What Action is the Agency Taking?

Section 4 of the Federal Insecticide, Fungicide, and Rodenticide Act (FIFRA) directs EPA to reevaluate existing pesticides to ensure that they meet current scientific and regulatory standards. In 2005, EPA issued a RED for xylene under section 4(g)(2)(A) of FIFRA. In response to a notice of availability published in the Federal Register of May 22, 2006 (71 FR 14511) (FRL-7766-3), the Agency received substantive comments and information from commenters. The Agency’s response to comments is available for viewing in the docket. The amended xylene RED reflects changes resulting from Agency consideration of the comments received on provisions of the RED, as well as efforts by the Agency to appropriately mitigate overall risk. The addendum to the RED for xylene concludes EPA’s reregistration eligibility decision-making process for this pesticide.

The xylene addendum includes: A summary of additional usage information provided by the Bureau of Reclamation and other stakeholders; a summary of the conclusions from revised human health risk assessments; Agency reconsideration of the need for removing the existing exemption from a tolerance; the addition of an ecological data requirement; revised ecological mitigation measures; and an updated Label Table, which summarizes specific labeling language required on product labels. Based on studies from the open literature and other information, the Agency has determined that crops irrigated with xylene-treated water may bear finite residues of xylene, albeit, at very low levels. Therefore, it is appropriate to retain the existing tolerance exemption for xylene to address any potential residues in food. The Agency has determined, based on additional usage information and revised assessments, that use of xylene does not present dermal risks of concern for occupational workers. As the potential for inhalation exposures to workers is uncertain at this time, given the lack of data, the Agency is requiring additional personal protective equipment (i.e., half-face respirator with an organic vapor-removing cartridge) for workers who apply or otherwise handle xylene. In order to mitigate potential risks of concern for nontarget aquatic organisms, the Agency is requiring that treated canal water either be used to irrigate crops or be held for 96 hours prior to release into receiving water bodies. In addition, as there are currently a limited number of aquatic herbicides registered for use in irrigation canals, the Agency has determined that xylene may continue to be used within all states identified under the Bureau of Reclamation Act, provided that the appropriate state registrations are also in place.

B. What is the Agency's Authority for Taking this Action?

Section 4(g)(2) of FIFRA, as amended, directs that, after submission of all data concerning a pesticide active ingredient, “the Administrator shall determine whether pesticides containing such active ingredient are eligible for reregistration,” before calling in product specific data on individual end-use products and either reregistering products or taking other “appropriate regulatory action.”

List of Subjects

Environmental protection, Pesticides and pests, xylene.

Dated: November 5, 2009.
Richard P. Keigwin, Jr.,
Director, Pesticide Re-evaluation Division, Office of Pesticide Programs.

[FR Doc. E9-27643 Filed 11-17-09; 8:45 am]

BILLING CODE 6560-50-S